DEPARTMENT OF DEFENSE

Office of the Secretary

[Docket ID DOD-2009-OS-0075]

Privacy Act of 1974; System of Records

AGENCY: National Security Agency/Central Security Service, DoD.

ACTION: Notice to Alter a System of Records.

SUMMARY: The National Security Agency/Central Security Service is proposing to alter an exempt system of records to its existing inventory of record systems subject to the Privacy Act of 1974, (5 U.S.C. 552a), as amended.

DATES: This proposed action would be effective without further notice on July 8, 2009 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on June 1, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: June 1, 2009.
Morgan E. Frazier,
Alternate OSD Federal Register Liaison Officer, Department of Defense.

GNSA 08

System name:

NSA/CSS Payroll and Claims (June 7, 1995, 60 FR 30074).

Changes:

* * * * *

System name:

Delete entry and replace with “NSA/CSS Payroll Processing Records”.

System Location:

Delete entry and replace with “Primary location: National Security Agency/Central Security Service, Ft. George G. Meade, MD 20755-6000.

Decentralized segments:

Defense Intelligence Agency (DIA) Headquarters and DIA field elements, DoD activities supported by DIA, and NSA field elements as authorized and appropriate. For official mailing addresses for any of the decentralized system locations, write to the National Security Agency/Central Security Service, 9800 Savage Road, Ft. George G. Meade, MD 20755-6000”.

Categories of Individuals covered in the system:

Delete entry and replace with “NSA/CSS and DIA Civilian employees, reemployed annuitants, personnel under contract and other DoD activities supported by DIA”.

Categories of records in the system:

Delete entry and replace with “File may consist of timesheets; work schedule changes; locator cards and other correspondence or revisions related to actions concerning time and attendance, absence, annual leave, sick leave, leave without pay, advanced leave, administrative leave, exemplary use of leave, unauthorized leave and absence and other related matters; payroll deductions, allotments and allowances; pay adjustment authorizations (DD Form 139); direct deposit; taxes; government life insurance; health insurance; savings bonds; retirement records; flexible spending account; long term care; thrift savings plan; dental/vision; electronic fund transfer; combined Federal campaign; and W2 record. Records may consist of name, Social Security Number (SSN), home address and phone number, emergency point of contact name and phone number and financial information”.

Authority for maintenance of system:

Delete entry and replace with “The National Security Agency Act of 1959, Public Law No. 86-36 (50 U.S.C. 402note); Title 5, Part III, of the United States Code (Employees); Title 31, Chapter 35, of the United States Code (Accounting and Collection); Title 5, Chapter 1, of the United States Code of Federal Regulations (Office of Personnel Management) and E.O. 9397 (SSN)”.

Purpose(s):

Delete entry and replace with “To provide a means of accounting for all time and attendance of the NSA/CSS civilian employees, DIA civilian employees, and certain contract employees; to maintain effective control and accountability for all relevant appropriated funds; to provide accounting data to support budget requests and control the execution of budgets; to provide financial information required by the Office of Management and Budget; and for agency management and payroll activities”.

Routine use of the records maintained in the system, including categories of users and the purpose of such uses:

Delete entry and replace with “In addition to those disclosures generally permitted under 5 U.S.C. 552a(b) of the Privacy Act of 1974, these records contained therein may specifically be disclosed outside the DoD as a routine use pursuant to 5 U.S.C. 552a(b)(3) as follows:

To contractor employees to assist government personnel in processing the payroll.

To other government entities in connection with Social Security deductions, unemployment compensation claims, job-related injury and death benefits, tax audit and collections.

To any party, council, representative, and/or witness in any legal proceeding, where pertinent, to which DoD is a party before a court or administrative body (including, but not limited to, the Equal Employment Opportunity Commission and Merit Service Protection Board).

The DoD `Blanket Routine Uses' set forth at the beginning of the NSA/CSS' compilation of systems of records notices apply to this system”.

* * * * *

Storage:

Delete entry and replace with “Paper in file folders and electronic storage media”.

* * * * *

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection”.

Retention and disposal:

Delete entry and replace with “Time and attendance records are destroyed after Government Accounting Office audit or when 6 years old. Leave records are placed in Official Personnel File then destroyed 65 years after separation from Federal Service. Employee pay records are destroyed when 56 years old.

Records are destroyed by pulping, burning, shredding, or erasure or destruction of magnet media”.

System manager(s) and address:

Delete entry and replace with “Chief, Payroll Division, National Security Agency/Central Security Service, Ft. George G. Meade, MD 20755-6000”.

Notification procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN) and mailing address”.

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN) and mailing address”.

Contesting record procedures:

Delete entry and replace with “The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248”.

Record source categories:

Delete entry and replace with “Forms, cards, requests and other documentation submitted by individuals, supervisors, personnel file data, time and attendance file data, and other sources as appropriate and required”.

Exemptions claimed for the system:

Delete entry and replace with “Individual records in this file may be exempt pursuant to 5 U.S.C. 552a(k)(2), as applicable.

An exemption rule for this record system has been promulgated according to the requirements of 5 U.S.C. 553(b)(1), (2), and (3), (c) and (e) and published in 32 CFR part 322. For additional information contact the system manager.”

* * * * *

GNSA 08

System name:

NSA/CSS Payroll Processing File.

System location:

Primary location: National Security Agency/Central Security Service, Ft. George G. Meade, MD 20755-6000.

Decentralized segments: Defense Intelligence Agency (DIA) Headquarters and DIA field elements, DoD activities supported by DIA, and NSA field elements as authorized and appropriate. For official mailing addresses for any of the decentralized system locations, write to the National Security Agency/Central Security Service, 9800 Savage Road, Ft. George G. Meade, MD 20755-6000.

Categories of individuals covered by the system:

NSA/CSS and DIA Civilian employees, reemployed annuitants, personnel under contract and other DoD activities supported by DIA.

Categories of records in the system:

File may consist of timesheets; work schedule changes; locator cards and other correspondence or revisions related to actions concerning time and attendance, absence, annual leave, sick leave, leave without pay, advanced leave, administrative leave, exemplary use of leave, unauthorized leave and absence and other related matters; payroll deductions, allotments and allowances; pay adjustment authorizations (DD Form 139); direct deposit; taxes; government life insurance; health insurance; savings bonds; retirement records; flexible spending account; long term care; thrift savings plan; dental/vision; electronic fund transfer; combined Federal campaign; and W2 record. Records may consist of name, Social Security Number (SSN) home address, home phone number, emergency point of contact name and phone number and financial information.

Authority for maintenance of the system:

The National Security Agency Act of 1959, Public Law No. 86-36 (50 U.S.C. 402 note); Title 5, Part III, of the United States Code (Employees); Title 31, Chapter 35, of the United States Code (Accounting and Collection); Title 5, Chapter 1, of the United States Code of Federal Regulations (Office of Personnel Management) and E.O. 9397 (SSN).

Purpose(s):

To provide a means of accounting for all time and attendance of the NSA/CSS civilian employees, DIA civilian employees, and certain contract employees; to maintain effective control and accountability for all relevant appropriated funds; to provide accounting data to support budget requests and control the execution of budgets; to provide financial information required by the Office of Management and Budget; and for agency management and payroll activities.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To contractor employees to assist government personnel in processing the payroll.

To other government entities in connection with Social Security deductions, unemployment compensation claims, job-related injury and death benefits, tax audit and collections.

To any party, council, representative, and/or witness in any legal proceeding, where pertinent, to which DoD is a party before a court or administrative body (including, but not limited to, the Equal Employment Opportunity Commission and Merit Service Protection Board).

The DoD ‘Blanket Routine Uses’ set forth at the beginning of the NSA/CSS' compilation of systems of records notices apply to this system.

Policies and practices for storing, retrieving, accessing, retaining, and disposing of records in the system:

Storage:

Paper records in file folders and electronic storage media.

Retrievability:

By name, Social Security Number (SSN).

Safeguards:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retention and disposal:

Time and attendance records are destroyed after Government Accounting Office audit or when 6 years old. Leave records are placed in Official Personnel File then destroyed 65 years after separation from Federal Service. Employee pay records are destroyed when 56 years old.

Records are destroyed by pulping, burning, shredding, erasure, or destruction of magnet media.

System manager(s) and address:

Chief, Payroll Division, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Suite 6248, Ft. George G. Meade, MD 20755-6248.

Written inquiries should contain the individual's full name, Social Security Number (SSN) and mailing address.

Record access procedures:

Individuals seeking access to information about themselves contained in this system should address written inquiries to the National Security Agency/Central Security Service, Freedom of Information Act/Privacy Act Office, 9800 Savage Road, Suite 6248, Ft. George G. Meade, MD 20755-6248.

Written inquiries should contain the individual's full name, Social Security Number (SSN) and mailing address.

Contesting record procedures:

The NSA/CSS rules for contesting contents and appealing initial determinations are published at 32 CFR part 322 or may be obtained by written request addressed to the National Security Agency/Central Security Service, Freedom of Information Act/Privacy Act Office, 9800 Savage Road, Suite 6248, Ft. George G. Meade, MD 20755-6248.

Record source categories:

Forms, cards, requests and other documentation submitted by individuals, supervisors, Personnel File data, Time and Attendance File data, and other sources as appropriate and required.

Exemptions claimed for the system:

Individual records in this file may be exempt pursuant to 5 U.S.C. 552a(k)(2), as applicable.

An exemption rule for this record system has been promulgated according to the requirements of 5 U.S.C. 553(b)(1), (2), and (3), (c) and (e) and published in 32 CFR part 322. For additional information contact the system manager.

[FR Doc. E9-13265 Filed 6-5-09; 8:45 am]

BILLING CODE 5001-06-P